DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Observer Program.

OMB Control Number: 0648-0318.

Form Number(s): None.

Type of Request: Regular (extension of a currently approved information collection).

Number of Respondents: 423.

Average Hours per Response: 8 hr to review and 1 hr to submit candidate college transcripts and statements, Observer provider; 1 hr for Observer training registration; 7 minutes for Observer briefing registration; 7 minutes each for Projected observer assignment and Observer deployment/logistics report; 5 minutes for Physical examination verification; 30 minutes each for Observer debriefing registration, Observer provider contracts and Industry Request for Assistance in Improving Observer Data Quality Issues; 12 minutes for Certificates of insurance; 1 hr for Other reports and Request for electronic monitoring as exemption for observer coverage; 60 hr for Observer provider permit application; 30 minutes for Observer provider invoice copies; 15 minutes each for Update to provider information, Observer declaration and deployment system (ODDs), Observer fee calculation and submittal and Notification of one-time election of observer coverage; 4 hours for Observer appeal.

Burden Hours: 2,643.

Needs and Uses: This request is for extension of a currently approved information collection.

The North Pacific Groundfish and Halibut Observer Program (Observer Program) plays a critical role in the conservation and management of Bering Sea, Aleutian Islands, and Gulf of Alaska groundfish and halibut fisheries. Five observer contracting companies provide observer services (see http://www.afsc.noaa.gov/FMA/observer_providers.htm) . Observers collect biological samples and fishery-dependent information on total catch and interactions with protected species. Managers use data collected by observers to monitor quotas, manage groundfish and prohibited species catch, and document and reduce fishery interactions with protected resources. Scientists use observer-collected data for stock assessments and marine ecosystem research.

All sectors of the groundfish fishery, including vessels less than 60 feet length overall and the commercial halibut sector, are now included in the Observer Program. The National Marine Fisheries Service (NMFS) has the flexibility to decide when and where to deploy observers based on a scientifically defensible deployment plan reviewed annually by the North Pacific Fishery Management Council. The Observer Program places all vessels and processors in the groundfish and halibut fisheries off Alaska into one of two observer coverage categories: a full coverage category and a partial coverage category.

Affected Public: Individuals or households; business or other for-profit organizations.

Frequency: Annually, weekly and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 4, 2015.
Sarah Brabson,
NOAA PRA Clearance Officer.

[FR Doc. 2015-28434 Filed 11-6-15; 8:45 am]

BILLING CODE 3510-22-P